DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of four individuals and four entities that have been placed on OFAC's Specially Designated Nationals and Blocked Persons List (SDN List) based on OFAC's determination that one or more applicable legal criteria were satisfied. All property and interests in property subject to U.S. jurisdiction of these individuals and entities are blocked, and U.S. persons are generally prohibited from engaging in transactions with them.

DATES: This action was issued on July 1, 2025. See Supplementary Information for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On July 1, 2025, OFAC determined that the property and interests in property subject to U.S. jurisdiction of the following individuals and entities are blocked under the relevant sanctions authorities listed below.

Individuals

1. BOZOYAN, Yurii Meruzhanovich, St. Petersburg, Russia; DOB 30 Jan 1992; nationality Russia; Gender Male; Secondary sanctions risk: Ukraine-/Russia-Related Sanctions Regulations, 31 CFR 589.201; Tax ID No. 780538991581 (Russia) (individual) [CAATSA—RUSSIA] [CYBER4] (Linked To: AEZA GROUP LLC).

Designated pursuant to section 1(a)(iii)(F) of Executive Order 13694 of April 1, 2015, “Blocking the Property of Certain Persons Engaging in Significant Malicious Cyber-Enabled Activities,” 80 FR 18077, 3 CFR, 2015 Comp., p. 297, as amended by Executive Order 13757 of December 28, 2016, “Taking Additional Steps to Address the National Emergency With Respect to Significant Malicious Cyber-Enabled Activities,” 82 FR 1, 3 CFR, 2016 Comp., p. 659, and as further amended by Executive Order 14144 of January 16, 2025, “Strengthening and Promoting Innovation in the Nation's Cybersecurity,” 90 FR 6755, and Executive Order 14306 of June 6, 2025, “Sustaining Select Efforts To Strengthen the Nation's Cybersecurity and Amending Executive Order 13694 and Executive Order 14144,” 90 FR 24723 (E.O. 13694, as further amended), for being or having been a leader, official, senior executive officer, or member of the board of directors of AEZA GROUP LLC, a person whose property and interests in property are blocked pursuant to E.O. 13694, as further amended.

2. GAST, Vladimir Vyacheslavovich, St. Petersburg, Russia; DOB 06 May 1999; nationality Russia; Gender Male; Secondary sanctions risk: Ukraine-/Russia-Related Sanctions Regulations, 31 CFR 589.201; Tax ID No. 860243420832 (Russia) (individual) [CAATSA—RUSSIA] [CYBER4] (Linked To: AEZA GROUP LLC). Designated pursuant to section 1(a)(iii)(F) of E.O. 13694, as further amended, for being or having been a leader, official, senior executive officer, or member of the board of directors of AEZA GROUP LLC, a person whose property and interests in property are blocked pursuant to E.O. 13694, as further amended.

3. KNYAZEV, Igor Anatolyevich, St. Petersburg, Russia; DOB 26 Jul 1986; nationality Russia; Gender Male; Secondary sanctions risk: Ukraine-/Russia-Related Sanctions Regulations, 31 CFR 589.201; Tax ID No. 780532513677 (Russia) (individual) [CAATSA—RUSSIA] [CYBER4] (Linked To: AEZA GROUP LLC).

Designated pursuant to section 1(a)(iii)(F) of E.O. 13694, as further amended, for being or having been a leader, official, senior executive officer, or member of the board of directors of AEZA GROUP LLC, a person whose property and interests in property are blocked pursuant to E.O. 13694, as further amended.

4. PENZEV, Arsenii Aleksandrovich, Leninskiy str. 64, 1, A, 766, St. Petersburg 198335, Russia; DOB 27 Oct 2002; nationality Russia; website aezadns.com; Email Address aezagroup@gmail.com; Gender Male; Secondary sanctions risk: Ukraine-/Russia-Related Sanctions Regulations, 31 CFR 589.201; Tax ID No. 780721423242 (Russia) (individual) [CAATSA—RUSSIA] [CYBER4] (Linked To: AEZA GROUP LLC).

Designated pursuant to section 1(a)(iii)(F) of E.O. 13694, as further amended, for being or having been a leader, official, senior executive officer, or member of the board of directors of AEZA GROUP LLC, a person whose property and interests in property are blocked pursuant to E.O. 13694, as further amended.

Entities

BILLING CODE 4810-AL-P

Lisa M. Palluconi,
Acting Director, Office of Foreign Assets Control.

[FR Doc. 2025-12471 Filed 7-2-25; 8:45 am]

BILLING CODE 4810-AL-C